DEPARTMENT OF AGRICULTURE

Forest Service

Forest Resource Coordinating Committee

AGENCY: Forest Service, USDA.

ACTION: Notice of meeting.

SUMMARY: The Forest Resource Coordinating Committee will meet via teleconference every month on the following dates within 2013: June 20, July 18, August 15, and September 19 from 12:00 p.m. to 1:00 p.m. (eastern time). The committee is authorized under the Food, Conservation, and Energy Act of 2008 (P.L. 110-246). The purpose of the committee is to coordinate non-industrial private forestry activities within the Department of Agriculture and with the private sector. The goal of these meetings is to share information and help guide the committee to make recommendations with regard to landscape scale conservation and related USDA programs.

DATES: The meetings will be held on the following dates within 2013: June 20, July 18, August 15, and September 19 from 12:00 p.m. to 1:00 p.m. (eastern time).

ADDRESSES: The meetings will be held via teleconference that interested public participants will be able to access via the following call-in information: 1-888-537-7715, Passcode 9372699#. Agenda items for each conference call will be posted to the Forest Resource Coordinating Committee Web site, http://www.fs.fed.us/spf/coop/frcc/, and written comments will be accepted up to the morning of each conference call.

Written comments may be submited by mail to Attn: Maya Solomon, 1400 Independence Ave. SW., Mailstop 1123, Washington, DC 20250 or by email to mayasolomon@fs.fed.us.

All comments, including names and addresses when provided, are placed in the record and made available for public inspection and copying. The public may inspect comments received on the Forest Resource Coordinating Committee Web site at http://www.fs.fed.us/spf/coop/frcc/. Public participants are encouraged to RSVP to Maya Solomon via phone at 202-205-1376 or via email at mayasolomon@fs.fed.us prior to the conference call to facilitate distribution of support materials.

FOR FURTHER INFORMATION CONTACT: Maya Solomon, Forest Resource Coordinating Committee Program Coordinator, Cooperative Forestry staff, 202-205-1376 or Ted Beauvais, Designated Federal Officer, Cooperative Forestry staff, 202-205-1190. Individuals who use telecommunication devices for the deaf (TDD) may call the Federal Information Relay Service (FIRS) at 1-800-877-8339 between 8:00 a.m. and 8:00 p.m., Eastern Standard Time, Monday through Friday.

SUPPLEMENTARY INFORMATION: The Forest Resource Coordinating Committee will have monthly meetings to share information on topics relating to landscape scale conservation and USDA programs targeted to landscape scale conservation intiatives. The meeting will be held on the following dates within 2013: June 20, July 18, August 15, and September 19 from 12:00 p.m. to 1:00 p.m. (eastern time). All teleconferences are open to the public. However, the public is strongly encouraged to RVSP to Maya Solomon via phone at 202-205-1376 or via email at mayasolomon@fs.fed.us prior to the conference call to ensure all related documents are shared with public meeting participants.

The agenda and any available materials for these meetings will be posted to the Forest Resource Coordinating Committee Web site http://www.fs.fed.us/spf/coop/frcc/. Comments and issues of particular interest for this meeting will also be made available to the public on this Web site. A summary of the meeting will be posted at http://www.fs.fed.us/spf/coop/ within 21 days after the meeting.

Dated: May 31, 2013.
Paul Ries,
Associate Deputy Chief, State and Private Forestry.

[FR Doc. 2013-13453 Filed 6-5-13; 8:45 am]

BILLING CODE 3410-11-P